DEPARTMENT OF ENERGY

Federal Energy Regulatory Commission

[Docket No. RP01-419-001]

TransColorado Gas Transmission Company; Notice of Compliance Filing

July 2, 2001.

Take notice that on June 28, 2001, TransColorado Gas Transmission Company (TransColorado) tendered for filing as part of its FERC Gas Tariff, Original Volume No. 1, Substitute Second Revised Sheet No. 206B, to be effective June 18, 2001.

TransColorado states that the filing is being made in compliance with the Commission's June 14, 2001, order in Docket No. RP01-419-000.

On May 15, 2001, TransColorado filed revised tariff sheets (the May 15 filing) to change the tariff references from its Direct Access Request and Tracking System (DART) to a more standardized name of “Interactive Website.” The Commission accepted and suspended the tariff sheets to December 1, 2001, or earlier, subject to refund and subject to TransColorado providing clarification and making a correction to a tariff sheet that still contained a reference to the DART system, which was removed and submitted in this filing.

In addition to the corrected tariff sheet, TransColorado provided an explanation for the deletion of Sections 2.1(b) (vii) and (viii), Discount Request Processing and Regulatory Reporting, respectively, proposed in the May 15, filing. TransColorado stated that both of these provisions and reporting formerly conducted on the DART system are now handled on its web site and that no changes are being made to TransColorado's conduct of business and procedures.

TransColorado states that a copy of this filing has been served upon TransColorado's customers, the Colorado Public Utilities Commission and New Mexico Public Utilities Commission.

Any person desiring to protest said filing should file a request with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing may be viewed on the web at http://www.ferc.gov using the “RIMS” link, select “Docket #” from the RIMS Menu and follow the instructions (please call (202) 208-2222 for assistance). Comments. protests and interventions may be filed electronically via the Internet in lieu of paper. See, 18 CFR 385.2001(a)(1)(iii) and the instructions on the Commission's web site at http://www.ferc.gov under the link to the User's Guide. If you have not yet established an account, you will need to create a new account by clicking on “Login to File” and then “New User Account.”

David P. Boergers,
Secretary.

[FR Doc. 01-17065 Filed 7-06-01; 8:45 am]

BILLING CODE 6717-01-M